DEPARTMENT OF JUSTICE

Antitrust Division

Notice Pursuant to the National Cooperative Research and Production Act of 1993—Telemanagement Forum

Notice is hereby given that, on January 23, 2017, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, Enghouse Networks Limited, Markham, CANADA; Vitis Consultoria, Brasília, BRAZIL; Limerick City and County Council, Limerick, IRELAND; City of Tampere, Tampere, FINLAND; ENTEL BOLIVIA S.A., La Paz, BOLIVIA; SOAInt Peru SAC, Lima, PERU; VF Consulting SAC, Lima, PERU; CableVision, SA, Buenos Aires, ARGENTINA; Mad Enterprise, Pornic, FRANCE; Vodafone India Limited, Mumbai, INDIA; VIVA—Kuwait Telecommunications Company, Salmiya, KUWAIT; Incedo Inc., Santa Clara, CA; ParkPlus System, Calgary, CANADA; RIFT.IO Inc., Burlington, MA; Expedite Commerce, Plano, TX; City of Miami, Miami, FL; Open University—Milton Keynes Council, Milton Keynes, UNITED KINGDOM; City of Utrecht, Utrecht, NETHERLANDS; Digital Afrique Telecom, Abidjan, IVORY COAST; City Strategies, LLC, New York, NY; Technological Educational Institute of Crete, Heraklion, GREECE; Powerlink, Virginia, Queensland, AUSTRALIA; Tessarine, Paris, FRANCE; TEAVARO, London, UNITED KINGDOM; and Riverbed Technology, Inc., San Francisco, CA, have been added as parties to this venture.

Also, Minerva Tantoco has changed its name to City Strategies, LLC, New York, NY.

In addition, the following parties have withdrawn as parties to this venture: Accanto Systems Oy, Hämeenkatu, FINLAND; Alclarus Limited, London, UNITED KINGDOM; Apigee Corporation, Palo Alto, CA; Avea, Istanbul, TURKEY; CanGo Networks Private Ltd., Chennai, INDIA; C-DOT, New Delhi, INDIA; CHUBB, New York, NY; Cominfo Consulting Group Ltd., Moscow, RUSSIA; Coriant GmbH, Munich, GERMANY; Cyan Optics, Petaluma, CA; e. Services Africa Limited, Accra, GHANA; Eandis, Melle, BELGIUM; FlexiTon Kft., Budapest, HUNGARY; Guangzhou wowotech Co., Ltd., Guangzhou, PEOPLE'S REPUBLIC OF CHINA; Infinera Corp., Sunnyvale, CA; Intent HQ, London, UNITED KINGDOM; International Software Techniques, Athens, GREECE; IntJoors Holding AB, Stockholm, SWEDEN; Jawwal, Ramallah, PALESTINE; Juniper Networks, Inc., Sunnyvale, CA; MHP Management, Ludwigsburg, GERMANY; MicroNova AG, Vierkirchen, GERMANY; Mobily, Riyadh, SAUDI ARABIA; MTS Allstream Inc., Winnipeg, CANADA; Polaris Consulting & Services Ltd., Piscataway, NJ; Saudi Business Machines, Riyadh, SAUDI ARABIA; Sigma Software Solutions Inc., Toronto, CANADA; Skytree, San Jose, CA; TataSky Ltd., Mumbai, INDIA; Time Warner Cable, Herndon, VA; Tupl Inc., Snoqualmie, WA; Webe Digital, Petaling Jaya, MALAYSIA; Windstream Communications, Little Rock, AR; and Wind Telecomunicazioni SpA, Rome, ITALY.

No other changes have been made in either the membership or planned activity of the group research project. Membership in this group research project remains open, and the Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on October 24, 2016. A notice was published in the Federal Register pursuant to Section 6(b) of the Act on December 13, 2016 (81 FR 89978).

Patricia A. Brink,
Director of Civil Enforcement, Antitrust Division.

[FR Doc. 2017-03789 Filed 2-24-17; 8:45 am]

BILLING CODE P